DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing updates to the identifying information of three entities currently included on OFAC's list of Specially Designated Nationals and Blocked Persons.

DATES: See SUPPLEMENTARY INFORMATION section for the date on which the updates become effective.

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On March 11, 2020, OFAC updated the SDN List for the following entities, whose property and interests in property continue to be blocked under the Foreign Narcotics Kingpin Designation Act.

Entities

1. COMERCIALIZADORA TRADE CLEAR, S.A. DE C.V. (a.k.a. BAKE AND KITCHEN), Av. Naciones Unidas 6875, Zapopan, Jalisco 45017, Mexico; Patria No. 1347-1, Col. Mirador del Sol, Zapopan, Jalisco CP 45054, Mexico; website www.bakeandkitchen.com; R.F.C. CTC140807HHA (Mexico) [SDNTK]

2. LAS FLORES CABANAS (a.k.a. CABANAS LAS FLORES; n.k.a. CABANAS LA LOMA), Km 5.4 Carretera Tapalpa—San Gabriel, Tapalpa, Jalisco 49340, Mexico; website www.cabanaslasflores.com [SDNTK]

3. OPERADORA LOS FAMOSOS, S.A. DE C.V. (a.k.a. KENZO SUSHI; a.k.a. OPERADORA LOS FAMOSOS, S.A.P.I. DE C.V.), Calle Ottawa #1568 T, Plaza Fusion Galerias, Colonia Providencia, Guadalajara, Jalisco, Mexico; Av. Providencia 1568, Providencia, Guadalajara, Jalisco 44630, Mexico; website www.kenzosushi.mx; R.F.C. OFA101214KG1 (Mexico) [SDNTK]

The listings for these entities now appear as follows:

1. COMERCIALIZADORA TRADE CLEAR, S.A. DE C.V. (a.k.a. BAKE AND KITCHEN), Av. Naciones Unidas 6875, Zapopan, Jalisco 45017, Mexico; Patria No. 1347-1, Col. Mirador del Sol, Zapopan, Jalisco CP 45054, Mexico; Av. Lopez Mateos Nte 1133, Plaza Midtown, Guadalajara, Jalisco, Mexico; website www.bakeandkitchen.com; R.F.C. CTC140807HHA (Mexico) [SDNTK]

2. LAS FLORES CABANAS (a.k.a. CABANAS LAS FLORES; n.k.a. CABANAS LA LOMA; n.k.a. CABANAS LA LOMA EN RENTA; n.k.a. CABANAS LA LOMA TAPALPA), Km 5.4 Carretera Tapalpa—San Gabriel, Tapalpa, Jalisco 49340, Mexico; website www.cabanaslasflores.com; alt. Website www.cabanaslalomatapalpa.com [SDNTK]

3. OPERADORA LOS FAMOSOS, S.A. DE C.V. (a.k.a. KENZO SUSHI; a.k.a. OPERADORA LOS FAMOSOS, S.A.P.I. DE C.V.), Calle Ottawa #1568 T, Plaza Fusion Galerias, Colonia Providencia, Guadalajara, Jalisco, Mexico; Av. Providencia 1568, Providencia, Guadalajara, Jalisco 44630, Mexico; Av. Real Acueducto #360 Int 1-A, Zapopan, Jalisco, Mexico; website www.kenzosushi.mx; R.F.C. OFA101214KG1 (Mexico) [SDNTK]

Dated: March 11, 2020.
Gregory T. Gatjanis,
Associate Director, Office of Global Targeting.

[FR Doc. 2020-05300 Filed 3-13-20; 8:45 am]

BILLING CODE 4810-AL-P